SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before September 30, 2002.

ADDRESSES: Send all comments regarding whether this information collection is necessary for the proper performance of the function of the agency, whether the burden estimates are accurate, and if there are ways to minimize the estimated burden and enhance the quality of the collection, to Linda Waters, Program Analyst, Office Government Contracting, Small Business Administration, 409 3rd Street, SW., Suite 8800, Washington DC 20416.

FOR FURTHER INFORMATION CONTACT: Linda Waters, Program Analyst, (202) 205-7315 or Curtis B. Rich, Management Analyst, (202) 205-7030.

SUPPLEMENTARY INFORMATION: Title: Small Business Administration, Application for Certificate of Competency.

Form No: 1531.

Description of Respondents: Small Business Owners.

Annual Responses: 300.

Annual Burden: 2,400.

Jacqueline White,
Chief, Administrative Information Branch.

[FR Doc. 02-19291 Filed 7-30-02; 8:45 am]

BILLING CODE 8025-01-P